DEPARTMENT OF TRANSPORTATION

Federal Aviation Administration

14 CFR Part 39

[Docket No. FAA-2023-0438; Project Identifier 2015-NM-065-AD; Amendment 39-22476; AD 2016-15-01R1]

RIN 2120-AA64

Airworthiness Directives; Airbus SAS Airplanes

AGENCY: Federal Aviation Administration (FAA), DOT.

ACTION: Final rule; removal.

SUMMARY: The FAA is removing Airworthiness Directive (AD) 2016-15-01, which applied to all Airbus SAS Model A300 series airplanes; Model A300 B4-600, B4-600R, and F4-600R series airplanes, and Model A300 C4-605R Variant F airplanes (collectively called Model A300-600 series airplanes); and Model A310 series airplanes. AD 2016-15-01 required an inspection to determine trimmable horizontal stabilizer actuator (THSA) part numbers, serial numbers, and flight cycles on certain THSAs; and repetitive replacement of certain THSAs. The FAA issued AD 2016-15-01 to prevent loss of THSA no-back brake (NBB) efficiency. Since the FAA issued AD 2016-15-01, the FAA has issued AD 2022-25-12 to terminate AD 2016-15-01 for Model A310 series airplanes and AD 2023-11-02 to terminate AD 2016-15-01 for Model A300-600 series airplanes. The FAA has also determined that the inclusion of the Model A300 series airplanes in the applicability of AD 2016-15-01 was an inadvertent error. Accordingly, AD 2016-15-01 is removed.

DATES: This AD becomes effective June 23, 2023.

ADDRESSES:

AD Docket: You may examine the AD docket at regulations.gov under Docket No. FAA-2023-0438; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Dan Rodina, Aviation Safety Engineer, FAA, 2200 South 216th St., Des Moines, WA 98198; phone: 206-231-3225; email: dan.rodina@faa.gov.

SUPPLEMENTARY INFORMATION:

Background

The FAA issued a notice of proposed rulemaking (NPRM) to amend 14 CFR part 39 by removing AD 2016-15-01, Amendment 39-18592 (81 FR 47696, July 22, 2016) (AD 2016-15-01). AD 2016-15-01 applied to all Airbus SAS Model A300 series airplanes; Model A300-600 series airplanes; and Model A310 series airplanes. The NPRM published in the Federal Register on March 28, 2023 (88 FR 18263). The NPRM was prompted by the FAA issuing AD 2022-25-12, Amendment 39-22268 (87 FR 78518, December 22, 2022) to terminate AD 2016-15-01 for Model A310 series airplanes, and by the FAA issuing AD 2023-11-02, Amendment 39-22447 (88 FR 36930, June 6, 2023) to terminate AD 2016-15-01 for Model A300-600 series airplanes. The FAA has also determined that the inclusion of the Model A300 series airplanes in the applicability of AD 2016-15-01 was an inadvertent error. The NPRM proposed to remove AD 2016-15-01. The FAA is issuing this AD to remove AD 2016-15-01.

Discussion of Final Airworthiness Directive

Comments

The FAA received one comment, from Air Line Pilots Association, International (ALPA), who supported the NPRM without change.

Conclusion

The FAA reviewed the relevant data, considered any comments received, and determined that air safety requires adopting this AD as proposed. Except for minor editorial changes, this AD is adopted as proposed in the NPRM. None of the changes will increase the economic burden on any operator.

This AD removes all actions of AD 2016-15-01. Therefore, the requirements of AD 2016-15-01 are terminated.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2016-15-01, Amendment 39-18592 (81 FR 47696, July 22, 2016), and

b. Adding the following new AD:

AD 2016-15-01R1 Airbus SAS: Amendment 39-22476; Docket No. FAA-2023-0438; Project Identifier 2015-NM-065-AD.

(a) Effective Date

This AD is effective June 23, 2023.

(b) Affected AD

This AD replaces AD 2016-15-01, Amendment 39-18592 (81 FR 47696, July 22, 2016).

(c) Applicability

This AD applies to the Airbus SAS airplanes identified in paragraphs (c)(1) through (c)(6) of this AD, certificated in any category, all manufacturer serial numbers.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(6) Model A310-203, -204, -221, -222, -304, -322, -324, and -325 airplanes.

(d) Subject

Air Transport Association (ATA) of America Code 27, Flight controls.

(e) Terminating Action

This AD terminates all requirements of AD 2016-15-01.

(f) Related Information

For more information about this AD, contact Dan Rodina, Aviation Safety Engineer, FAA, 2200 South 216th St., Des Moines, WA 98198; phone: 206-231-3225; email: dan.rodina@faa.gov.

(g) Material Incorporated by Reference

None.

Issued on June 20, 2023.
Gaetano A. Sciortino,
Acting Director, Compliance & Airworthiness Division, Aircraft Certification Service.

[FR Doc. 2023-13417 Filed 6-23-23; 8:45 am]

BILLING CODE 4910-13-P